DEPARTMENT OF THE INTERIOR

Bureau of Land Management

[LLCOF02000 L14400000.EU0000 16X]

Notice of Realty Action: Second Notice of Segregation of Land for a Non-Competitive (Direct) Sale of Public Land in Gilpin County, Colorado

AGENCY: Bureau of Land Management, Interior.

ACTION: Notice of Realty Action.

SUMMARY: The Bureau of Land Management (BLM) proposes to sell four parcels of public land totaling 6.72 acres in Gilpin County, Colorado, to the City of Black Hawk (Black Hawk) under the direct sale provisions of the Federal Land Policy and Management Act of 1976 (FLPMA), for not less than the fair market value.

DATES: In order to ensure consideration in the environmental analysis of the proposed sale, comments must be received by June 17, 2016.

ADDRESSES: Send written comments concerning this notice to Keith Berger, Field Manager, BLM Royal Gorge Field Office, 3028 E. Main St., Canon City, CO 81212. Comments can be emailed to RGFO_Comments@blm.gov.

FOR FURTHER INFORMATION CONTACT: Greg Valladares, Realty Specialist, BLM, Royal Gorge Field Office, at the above address or by phone, 719-269-8513. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following described public lands have been examined and found suitable for direct sale under the authority of Sections 203 and 209 of FLPMA, as amended (43 U.S. C. 1713 and 1719).

Sixth Principal Meridian, Colorado

T. 3 S., R. 73 W.,

Sec. 12, lots 20, 21, 23, and 24.

The areas described aggregate 6.72 acres.

On May 6, 2016, the above described lands will be segregated from appropriation under the public land laws, including the mining laws, except the sale provisions of the FLPMA. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or on May 5, 2018. The original segregation was published under 79 FR 25887, dated May 6, 2014. The BLM Colorado State Director has determined that the extension is necessary to provide sufficient time to complete the environmental assessment on the direct sale to the City of Black Hawk.

These public lands were identified as suitable for disposal in the 1986 Northeast Resource Management Plan and are not needed for any other Federal purpose. The purpose of the sale is to dispose of public lands that are difficult and uneconomic to manage as part of the public lands and are not suitable for management by another Federal department or agency. The lands are considered difficult and uneconomic to manage, because they consist of irregularly shaped, isolated, and very small remnants left over after the issuance of intermingled mining claim patents. A direct sale is appropriate in this case, as the lands are proposed for sale to a local government to meet its needs for future water storage infrastructure. Black Hawk is in the process of completing the purchase of surrounding private parcels involved in the water project.

Black Hawk has initiated an environmental assessment to support a Section 404 permit application to the U.S. Army Corps of Engineers for water diversion, storage structures and infrastructure to meet forecasted needs. Analysis of the disposal of these lands for possible inclusion in the proposed Quartz Valley Reservoir will be included within this environmental assessment.

Conveyance of the identified public lands will be subject to valid existing rights and encumbrances of record, including, but not limited to, rights-of-way for roads and public utilities. Conveyance of any mineral interests pursuant to Section 209 of FLPMA will be analyzed during processing of the proposed sale.

In addition to this Notice of Realty Action (NORA), notice of this sale will be published once a week for three weeks in the Mountain Ear and the Weekly Register-Call.

The public lands will not be offered for sale until after July 5, 2016. The patent, if issued, will be subject to all valid existing rights documented on the official public land records at the time of patent issuance. The availability of the appraisal report, mineral report and other documents pertinent to the proposed sale will be announced in a second NORA and made available to the public prior to the sale by the BLM at the Royal Gorge Field Office (address listed above).

For a period until June 17, 2016, interested parties and the public may submit written comments to the BLM Royal Gorge Field Manager (see ADDRESSES section). Comments, including names and street addresses of respondents, will be available for public review at the BLM Royal Gorge Field Office during regular business hours. In order to ensure consideration in the environmental analysis of the proposed sale, comments must be in writing and postmarked or delivered within 45 days of the initial date of publication of this Notice.

Before including your address, phone number, email address, or other personal identifying information in your comment, you should be aware that your entire comment—including your personal identifying information—may be made publicly available at any time. While you can ask us in your comment to withhold your personal identifying information from public review, we cannot guarantee that we will be able to do so.

The BLM Colorado State Director, who may sustain, vacate, or modify this realty action and issue a final determination, will review any comments. In the absence of any objections, this realty action will become the final determination of the Department of the Interior.

Authority: 43 CFR 2711.1-2.

Ruth Welch,
BLM Colorado State Director.

[FR Doc. 2016-10290 Filed 5-2-16; 8:45 am]

BILLING CODE 4310-JB-P